DEPARTMENT OF COMMERCE

National Oceanic and Atmospheric Administration

[RTID 0648-XE404]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person meeting of its Outreach and Education Technical Committee.

DATES: The meeting will convene on Wednesday, November 13, 2024, from 8:30 a.m. to 4 p.m., EST.

ADDRESSES: The meeting will be held in-person at the Gulf Council office. Please visit the Gulf Council website at www.gulfcouncil.org for meeting materials.

Council address: Gulf of Mexico Fishery Management Council, 4107 W. Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Wednesday, November 13, 2024; 8:30 a.m. until 4 p.m., EST

The Meeting will begin with welcome and introductions, election of chair/vice chair, adoption of agenda, approval of December 19, 2023 meeting summary, and scope of work.

The Committee will review Recreational Initiative, Shrimp, and For-Hire Reporting Outreach programs. The Committee will receive an update on Ecosystem Based Fishery Management (EBFM) Outreach, review and discuss Management Areas and Boundary Outreach, 2024 Communications Improvement Plan Progress and 2024 Analytics. The Committee will hold a discussion of Council Outreach Strategy and 2025 Communications Improvement Plan Ideas.

The Committee will discuss Other Business items and receive Public Comment before the meeting adjourns.

—Meeting Adjourns

The Agenda is subject to change, and the latest version along with other meeting materials will be posted on www.gulfcouncil.org.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take-action to address the emergency.

Authority: 16 U.S.C. 1801 et seq.

Dated: October 21, 2024.
Rey Israel Marquez,
Acting Deputy Director, Office of Sustainable Fisheries, National Marine Fisheries Service.

[FR Doc. 2024-24837 Filed 10-24-24; 8:45 am]

BILLING CODE 3510-22-P